DEPARTMENT OF COMMERCE

National Oceanic and Atmospheric Administration

50 CFR Part 660

[Docket No. 040429134-4135-01; I.D. 111004B]

Fisheries Off West Coast States and in the Western Pacific; West Coast Salmon Fisheries; Inseason Action #16—Adjustment of the Recreational Fishery from the U.S.-Canada Border to Cape Alava, Washington

AGENCY: National Marine Fisheries Service (NMFS), National Oceanic and Atmospheric Administration (NOAA), Commerce.

ACTION: Reopening of a fishing season; request for comments.

SUMMARY: NMFS announces the recreational salmon fishery in the area from the U.S.-Canada Border to Cape Alava, WA (Neah Bay Subarea) was modified to reopen effective Friday, September 10, 2004, through the earlier of September 19 or a modified subarea quota of 30,750 coho. This action was necessary to conform to the 2004 management goals.

DATES: Reopening effective 0001 hours local time (l.t.) September 10, 2004, until the chinook quota or coho quota are taken, or 2359 hours l.t., September 19, 2004; after which the fishery will remain closed until opened through an additional inseason action for the west coast salmon fisheries, which will be published in the Federal Register, or until the effective date of the next scheduled open period announced in the 2005 annual management measures. Comments will be accepted through December 3, 2004.

ADDRESSES: Comments on this action must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2004salmonIA16.nwr@noaa.gov address, or through the internet at the Federal eRulemaking Portal: http://www.regulations.gov. Follow the instructions for submitting comments, and include [Docket number and/or RIN number] in the subject line of the message. Information relevant to this document is available for public review during business hours at the Office of the Regional Administrator, Northwest Region, NMFS.

FOR FURTHER INFORMATION CONTACT: Christopher Wright, 206-526-6140.

SUPPLEMENTARY INFORMATION: The NMFS Regional Administrator (RA) reopened the recreational salmon fishery in the area from the U.S.-Canada Border to Cape Alava, WA (Neah Bay Subarea), effective Friday, September 10, 2004, through the earlier of September 19 or a modified subarea quota of 30,750 coho. On September 9 the Regional Administrator had determined the available catch and effort data indicated that enough fish remained within the coho and chinook quotas to allow additional days of fishing.

All other restrictions remained in effect as announced for 2004 ocean salmon fisheries and previous inseason actions. This action was necessary to conform to the 2004 management goals. Recision of automatic season closures are authorized by regulations at 50 CFR 660.409(a)(2).

In the 2004 annual management measures for ocean salmon fisheries (69 FR 25026, May 5, 2004), NMFS announced the recreational fishery in the area from the U.S.-Canada Border to Cape Alava, WA (Neah Bay Subarea) would open June 27 through the earlier of September 19 or a 21,050 coho subarea quota, with a subarea guideline of 3,700 chinook.

Inseason Action #10 reallocated 40,000 coho from Queets River to Leadbetter Point, WA (Westport Subarea) quota effective August 13, 2004, by transferring the coho on an impact neutral basis, to the coho quota in the subarea from the U.S.-Canada Border to Cape Alava, WA (Neah Bay Subarea), which increased the Neah Bay Subarea quota by 6,600 coho (69 FR 54047, September 7, 2004).

The recreational salmon fishery in the area from the U.S.-Canada Border to Cape Alava, WA (Neah Bay Subarea) was modified by Inseason Action #13 to close at midnight on Thursday, September 2, 2004. To allow for the Neah Bay Subarea to remain open until September 2, 3,100 coho were transferred to the Neah Bay coho quota on an impact neutral basis from the Queets River to Leadbetter Point, WA (Westport Subarea), coho quota.

On September 9, 2004, the RA consulted with representatives of the Pacific Fishery Management Council, Washington Department of Fish and Wildlife, and Oregon Department of Fish and Wildlife by conference call. Information related to catch to date, the coho and chinook catch rates, and effort data indicated that the Neah Bay Subarea catch was lower than was anticipated, and that enough fish remained within the coho and chinook quotas to allow additional days of fishing. As a result, on September 9 the states recommended, and the RA concurred, that Neah Bay Subarea reopen effective Friday, September 10, 2004, and continue through the earlier of September 19 or a modified subarea quota of 30,750 coho. All other restrictions that applied to this fishery remained in effect as announced in the 2004 annual management measures and previous inseason action notices.

The RA determined that the best available information indicated that the catch and effort data, and projections, supported the above inseason action recommended by the states. The states manage the fisheries in state waters adjacent to the areas of the U.S. exclusive economic zone in accordance with this Federal action. As provided by the inseason notice procedures of 50 CFR 660.411, actual notice to fishers of the already described regulatory action was given, prior to the date the action was effective, by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (69 FR 25026, May 5, 2004), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modification had to be implemented in order to allow fishers access to the available fish at the time the fish were available. A delay in effectiveness of this action would unnecessarily limit fishers appropriately controlled access to available fish during the scheduled fishing season because this action rescinds an automatic closure. For the same reasons, the AA also finds good cause to waive the 30-day delay in effectiveness required under U.S.C. 553(d)(3).

This action is authorized by 50 CFR 660.409 and 660.411 and are exempt from review under Executive Order 12866.

Authority: 16 U.S.C. 1801 et seq.

Dated: November 12, 2004.
Alan D. Risenhoover,
Acting Director, Office of Sustainable Fisheries, National Marine Fisheries Service.

[FR Doc. 04-25639 Filed 11-17-04; 8:45 am]

BILLING CODE 3510-22-S